DEPARTMENT OF THE INTERIOR

Minerals Management Service

Agency Information Collection Activities: Submitted for Office of Management and Budget (OMB) Review; Comment Request

AGENCY: Minerals Management Service (MMS), Interior.

ACTION: Notice of extension of an information collection (1010-0143).

SUMMARY: To comply with the Paperwork Reduction Act of 1995 (PRA), MMS is notifying the public that it has submitted to OMB an information collection request (ICR) to renew approval of the paperwork requirements in the regulations under 30 CFR 260, “Outer Continental Shelf Oil and Gas Leasing.” This notice also provides the public a second opportunity to comment on the paperwork burden of these regulatory requirements.

DATES: Submit written comments by December 3, 2003.

ADDRESSES: You may submit comments either by fax (202) 395-6566 or email (OIRA_DOCKET@omb.eop.gov) directly to the Office of Information and Regulatory Affairs, OMB, Attention: Desk Officer for the Department of the Interior (1010-0143). Mail or hand carry a copy of your comments to the Department of the Interior; Minerals Management Service; Attention: Rules Processing Team; Mail Stop 4024; 381 Elden Street; Herndon, Virginia 20170-4817. If you wish to email comments to MMS, the address is: rules.comments@mms.gov. Reference Information Collection 1010-0143 in your subject line and mark your message for return receipt. Include your name and return address in your message text.

FOR FURTHER INFORMATION CONTACT: Arlene Bajusz, Rules Processing Team, telephone (703) 787-1600. You may also contact Arlene Bajusz to obtain a copy, at no cost, of the regulations that require the subject collection of information.

SUPPLEMENTARY INFORMATION: Title: 30 CFR 260, Outer Continental Shelf Oil and Gas Leasing.

OMB Control Number: 1010-0143.

Abstract: The Outer Continental Shelf (OCS) Lands Act, as amended (43 U.S.C. 1331 et seq. and 43 U.S.C. 1801 et seq.), authorizes the Secretary of the Interior (Secretary) to prescribe rules and regulations to administer leasing of the OCS. Section 8(a)(1) of the OCS Lands Act provides authority for the Secretary to offer leases under a variety of bidding systems. The regulations at 30 CFR part 260 describe the bidding systems, joint bidding requirements, and royalty suspensions for certain leases. They encourage leasing competition through the use of appropriate bidding-system alternatives and a joint bidding ban among certain large companies. Also, these regulations implement the Secretary's authority to promote leasing interest in certain areas of the OCS through automatic suspension of royalties. The Minerals Management Service (MMS) administers this program for the Secretary.

Regulations under part 260 require lessees to notify MMS of their intention to begin production. Lessees must also request confirmation of the size of the royalty-suspension volume that applies to the pre-2001 eligible lease. The MMS uses the information collected to make decisions on the shares of the royalty-suspension volume that applies to multiple pre-2001 eligible leases on the same field. The information is used to ensure royalty suspension volume is properly allocated among constituent leases in a field. Respondents may request reconsideration of an assignment of their lease that has a qualifying well to an existing field or to a newly designated field. MMS will use the information to reconsider and adjust, if necessary, the initial field assignment for a lease. These decisions can be contentious because a favorable field assignment can save a lessee tens of millions of dollars in royalties.

Frequency: On occasion.

Estimated Number and Description of Respondents: Approximately 10 of the 130 Federal OCS oil and gas lessees.

Estimated Reporting and Recordkeeping “Hour” Burden: The estimated annual “hour” burden for this information collection is a total of 1,603 hours. The individual components and their respective hour burden estimates are detailed below. In calculating the burdens, MMS assumed that respondents perform certain requirements in the normal course of their activities. MMS considers these to be usual and customary and took that into account in estimating the burden.

§§ 260.114(a) and 260.124(a)—Request MMS to reconsider the field assignment of a lease (average of 400 hours per request × 4 requests = 1,600 hours).

§ 260.114(c)—Notify MMS of intent to begin production and request confirmation of the size of royalty-suspension volume (½ hour per notice × 6 notices = 3 hours).

Part 260 also refers to various items of information collected under 30 CFR parts 203 and 256. OMB has approved those information collections under OMB Control Numbers 1010-0071 and 1010-0006, respectively.

Estimated Reporting and Recordkeeping “Non-Hour Cost” Burden: MMS has identified no non-hour cost burdens for this collection.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 19, 2003, MMS published a Federal Register notice (68 FR 36836) announcing that it would submit this ICR to OMB for approval. The notice provided the required 60-day comment period. In addition, § 260.3 provides the OMB control number for the information collection requirements imposed by the 30 CFR 260 regulations. The regulation also informs the public that they may comment at any time on the collections of information and provides the address to which they should send comments. MMS has received no comments in response to these efforts.

If you wish to comment in response to this notice, you may send your comments to the offices listed under the ADDRESSES section of this notice. OMB has up to 60 days to approve or disapprove the information collection but may respond after 30 days. Therefore, to ensure maximum consideration, OMB should receive public comments by December 3, 2003.

Public Comment Policy: MMS's practice is to make comments, including names and home addresses of respondents, available for public review during regular business hours. If you wish to withhold your name and/or address, you must state this prominently at the beginning of your comment. MMS will honor the request to the extent allowable by the law. However, anonymous comments will not be considered. All submissions from organizations or businesses, and from individuals identifying themselves as representatives or officials of organizations or businesses, will be made available for public inspection in their entirety.

MMS Federal Register Liaison Officer: Denise Johnson, (202) 208-3976.

Dated: October 1, 2003.
E.P. Danenberger,
Chief, Engineering and Operations Division.

[FR Doc. 03-27513 Filed 10-31-03; 8:45 am]

BILLING CODE 4310-MR-P